DEPARTMENT OF ENERGY

Agency Information Collection Extension

AGENCY: U.S. Department of Energy.

ACTION: Notice and request for comments.

SUMMARY: The Department of Energy (DOE), pursuant to the Paperwork Reduction Act of 1995, 44 U.S.C. 3501 et seq., intends to extend for three years an information collection request with the Office of Management and Budget (OMB) concerning health and safety reporting requirements for DOE contractors. The information collected will be used by DOE to exercise management oversight and control over Management and Operating (M&O) contractors of DOE's Government-Owned Contractor-Operated (GOCO) facilities, and offsite contractors. The contractor management oversight and control function concerns the ways in which DOE contractors provide goods and services for DOE organizations and activities in accordance with the terms of their contract; the applicable statutory, regulatory and mission support requirements of the Department; and regulations in the functional area covered in this request. Comments are invited on: (a) Whether the extended information collection is necessary for the proper performance of the functions of the agency, including whether the information shall have practical utility; (b) the accuracy of the agency's estimate of the burden of the proposed information collection, including the validity of the methodology and assumptions used; (c) ways to enhance the quality, utility, and clarity of the information to be collected; and (d) ways to minimize the burden of the information collection on respondents, including through the use of automated collection techniques or other forms of information technology.

Comments submitted in response to this notice will be summarized and included in the request for OMB review and approval of this information collection; they also will become a matter of public record.

DATES: Comments regarding this proposed information collection must be received on or before April 27, 2009. If you anticipate difficulty in submitting comments within that period, contact the person listed below as soon as possible.

ADDRESSES: Written comments may be sent to: Vincent Le, HS-1.22, Germantown Building, U.S. Department of Energy, 1000 Independence Ave., SW., Washington, DC 20585-1290. Or by fax at 301-903-6081 or by e-mail at vinh.le@hq.doe.gov.

FOR FURTHER INFORMATION CONTACT: Copies of the proposed information collection instrument and instructions may be obtained at http://www.hss.energy.gov/pra.html. Alternatively, requests for additional information or copies of the information collection instrument and instructions should be directed to the person listed above in ADDRESSES.

SUPPLEMENTARY INFORMATION: The information collection request contains the following: (1) OMB No: 1910-0300. (2) Package Title: Environment, Safety and Health. (3) Type of Review: Renewal. (4) Purpose: for DOE management oversight and control over its contractors ensuring that environment, safety and health resources and requirements are managed efficiently and effectively. (5) Respondents: 2,469. (6) Estimated Number of Burden Hours: 68,136; and Estimated Annual Cost Burden: $12,741,432.

Statutory Authority: Department of Energy Organization Act, Public Law No. 95-91, 91 Stat. 565 (1977).

Issued in Washington, DC on January 21, 2009.
Lesley A. Gasperow,
Director, Office of Resource Management, Office of Health, Safety and Security.

[FR Doc. E9-4106 Filed 2-25-09; 8:45 am]

BILLING CODE 6450-01-P